FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
011296N | Master Air Cargo, Inc., 3900 NW. 79th Avenue, Suite 236, Doral, FL 33166 | March 26, 2010.
017843NF | Washington Movers, Inc., 7913 Cryden Way, Forestville, MD 20747 | March 28, 2010.
021331N | Deseret Forwarding International, Inc., 4105 Rio Bravo, Suite 100, El Paso, TX 79902 | February 25, 2010.
021896N | Logistic Freight Forwarders, Group, Inc., 7232 NW. 56th Street, Miami, FL 33166 | March 25, 2010.

Sandra L. Kusumoto,
Director, Bureau of Certification and Licensing

[FR Doc. 2010-10751 Filed 5-6-10; 8:45 am]

BILLING CODE 6730-01-P